DEPARTMENT OF HOMELAND SECURITY

Coast Guard

33 CFR Part 110

[CGD01-04-004]

1625-AA01

Anchorage Grounds; Buzzards Bay, MA

AGENCY: Coast Guard, DHS.

ACTION: Notice of proposed rulemaking.

SUMMARY: The Coast Guard proposes to amend the anchorage regulations for Buzzards Bay, Nantucket Sound, and adjacent waters of Massachusetts by relocating anchorage ground “L” in Buzzards Bay to an area near Naushon Island, MA. This action is intended to increase the safety of life and property on Buzzards Bay, improve the safety of anchored vessels in anchorage “L”, and provide for the overall safe and efficient flow of vessel traffic and commerce via the proposed Recommended Traffic Route for Deep Draft Vessels. The proposed regulation would maintain the shape and dimension of anchorage “L” but move the anchorage within Buzzards Bay.

DATES: Comments and related material must reach the Coast Guard on or before July 15, 2004.

ADDRESSES: Comments should be mailed to: Commander (oan) (CGD01-04-004), First Coast Guard District, 408 Atlantic Ave., Boston, Massachusetts 02110, or deliver them to room 628 at the same address between 8 a.m. and 3 p.m., Monday through Friday, except Federal holidays. The Office of Aids to Navigation Branch, First Coast Guard District maintains the public docket for this rulemaking. Comments, and documents as indicated in this preamble, will become part of this docket and will be available for inspection or copying at room 628, First Coast Guard District Boston, between 8 a.m. and 3 p.m., Monday through Friday, except Federal holidays.

FOR FURTHER INFORMATION CONTACT: Mr. J. J. Mauro, Commander (oan), First Coast Guard District, 408 Atlantic Ave., Boston, MA 02110, at (617) 223-8355.

SUPPLEMENTARY INFORMATION:

Request for Comments

The Coast Guard encourages interested persons to participate in this rulemaking by submitting comments and related material. Persons submitting comments should include their names and addresses, identify the docket number for this rulemaking (CGD01-04-004), indicate the specific section of this document to which each comment applies, and give the reason for each comment. Please submit all comments and related material in an unbound format, no larger than 8½ by 11 inches, suitable for copying. Persons wanting acknowledgment of receipt of comments should enclose stamped, self-addressed postcards or envelopes. We will consider all comments and material received during the comment period. We may change this proposed rule in view of the comments received.

Public Meeting

The Coast Guard plans no public hearing. Persons may request a public hearing by writing to the Office of Aids to Navigation Branch at the Address under ADDRESSES. The request should include the reasons why a hearing would be beneficial. If we determine that the opportunity for oral presentations will aid this rulemaking, we will hold a public hearing at a time and place announced by a later notice in the Federal Register.

Background and Purpose

In light of significant oil spills in Rhode Island Sound in 1996 and Buzzards Bay in 2003, specific recommendations from a navigation risk assessment conducted by a formal Ports and Waterways Safety Assessment (PAWSA) for Buzzards Bay in North Falmouth, Massachusetts, on 9-10 September 2003, and a letter to the Coast Guard First District Commander signed by members of the Massachusetts Congressional delegation, it appears that measures should be taken to enhance the safety of navigation within Buzzards Bay. A Recommended Traffic Route for vessels may be needed to improve navigation safety in this area. The Recommended Route, to be implemented on April 27, 2004, was presented to the Southeastern Massachusetts and Rhode Island Port Safety and Security Committees, the stakeholder participants at the Buzzards Bay Ports and Waterways Safety Assessment (PAWSA), and to many commercial tug and vessel masters, with no objections. Additionally, the route has been presented to the American Waterways Operators (AWO) organization for its review. AWO generally supports the establishment of recommended traffic routes, provided that vessel masters are afforded latitude to deviate from the routes as circumstances, such as weather or vessel traffic, might dictate. As contemplated, vessel masters would indeed have such latitude. A Buzzards Bay Traffic Route would not preclude vessel masters from using their best judgment navigating their vessels to ensure safety.

Presently, there are two designated anchorage grounds in Buzzards Bay; anchorage “L” and anchorage “M”, located at 33 CFR 110.140(b)(3) and 33 CFR 110.140(b)(4), respectively. The present location of anchorage “L” puts it directly in the proposed path of the Recommended Route for Deep Draft vessels entering or leaving the Cape Cod Canal via Cleveland Ledge Channel. The proposed size and shape of the new anchorage ground, similarly called anchorage “L”, would remain the same.

In developing this proposed rule, the Coast Guard has consulted with and has the approval of the Chief of Engineers the Army Corps of Engineers, Northeast. This proposed rule would not exclude fishing activity or the transit of vessels in the anchorage grounds. The Coast Guard anticipates the proposed new location of anchorage ground “L” would cause minimal transit interference with the new route.

Discussion of Proposed Rule

The proposed rule would move Anchorage “L” from one area of Buzzard's Bay to another. The anchorage is currently in the center of Buzzards Bay and would move approximately 4 nm to the southwest part of the Bay. This proposal would enhance safety of navigation and efficiency for deep draft vessels transiting Buzzards Bay.

Regulatory Evaluation

This proposed regulation is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (DOT) (44 FR 11040; February 26, 1979).

We expect the economic impact of this proposed rule to be so minimal that a full Regulatory Evaluation under paragraph 10(e) of the regulatory policies and procedures of DOT is unnecessary.

This conclusion is based upon the fact that there are no fees, permits, or specialized requirements for the maritime industry to utilize this anchorage area. The regulation is solely for the purpose of advancing the safety of maritime commerce.

Small Entities

Under the Regulatory Flexibility Act (5 U.S.C. 601-612), the Coast Guard considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities. This proposed rule would have minimal economic impact on lobster fishing vessels and recreational boaters. This conclusion is based upon the fact that there are no restrictions for entry or use of the proposed anchorage targeting small entities. The proposed regulation relocates one existing anchorage area.

If you think that your business, organization, or governmental jurisdiction qualifies as a small entity and that this rule would have a significant economic impact on it, please submit a comment (see ADDRESSES ) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the proposed rule would affect your small business, organization, or governmental jurisdiction and you have questions concerning its provisions or options for compliance, please contact John J. Mauro at the address listed in ADDRESSES above.

Collection of Information

This proposed rule would call for no new collection of information under the Paperwork Reduction Act of 1995 (44 U.S.C. 3501-3520).

Federalism

The Coast Guard has analyzed this proposed rule under Executive Order 13132, Federalism, and has determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

The Coast Guard has analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard has considered the environmental impact of this proposed rule and concluded that, under figure 2-1, paragraph (34)(f) of Commandant Instruction M16475.1D, this proposed rule is categorically excluded from further environmental documentation. A “Categorical Exclusion Determination” is available in the docket where indicated under ADDRESSES.

This rule proposes relocating one existing anchorage area to the East of the Recommend Route. This designated anchorage would enhance the safety in the waters of Buzzards Bay, MA by relieving vessel congestion within the bay. Thus, relocating this designated anchorage would provide a safer approach to the Cape Cod Canal by deep draft vessels.

List of Subjects in 33 CFR Part 110

Anchorage grounds.

For the reasons set forth in the preamble, the Coast Guard proposes to amend 33 CFR part 110 as follows:

PART 110—ANCHORAGE REGULATIONS

1. The authority citation for part 110 continues to read as follows:

Authority: 33 U.S.C. 471, 1221 through 1236, 2030, 2035, 2071; 33 CFR 1.05-1(g) and Department of Homeland Security Delegation No. 0170.1.

2. In §110.140 paragraph (b)(3) is revised to read as follows:

§ 110.140 Buzzards Bay, Nantucket Sound, and adjacent waters, Mass.

* * * * *

(b) * * *

(3) Anchorage L-. The waters bounded by a rhumb line connecting the following points:

Latitude | Longitude
41°030′011″ N | 070°048′010″ W; thence to
41°030′046″ N | 070°048′045″ W; thence to
41°032′024″ N | 070°045′050″ W; thence to
41°031′048″ N | 070°045′015″ W; returning to start

* * * * *

Dated: March 9, 2004.
Vivien S. Crea,
RADM, U.S. Coast Guard, Commander, First Coast Guard District.

[FR Doc. 04-8498 Filed 4-15-04; 8:45 am]

BILLING CODE 4910-15-P